DEPARTMENT OF ENERGY

Federal Energy Regulatory Commission

[Docket No. RP02-21-000]

Northwest Pipeline Corporation; Notice of Proposed Changes in FERC Gas Tariff

October 23, 2001.

Take notice that on October 18, 2001, Northwest Pipeline Corporation (Northwest) tendered for filing as part of its FERC Gas Tariff, Third Revised Volume No. 1, the following tariff sheets, with an effective date of November 18, 2001:

Ninth Revised Sheet No. 24

Original Sheet No. 25

Sheet Nos. 26 through 29 (Reserved)

Fifth Revised Sheet No. 108

Third Revised Sheet No. 109

Second Revised Sheet No. 110

Fourth Revised Sheet No. 264

First Revised Sheet No. 264-A

Fifth Revised Sheet No. 274

First Revised Sheet No. 274-A

Original Sheet No. 274-B

Fifth Revised Sheet No. 275

Northwest states that the purpose of this filing is to propose three new tariff provisions related to a shipper's right to delivery point capacity when such capacity is available solely due to the construction or upgrade of meter station facilities that are requested and paid for by that shipper.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-27089 Filed 10-26-01; 8:45 am]

BILLING CODE 6717-01-P